DEPARTMENT OF THE INTERIOR

Minerals Management Service

30 CFR Parts 250 and 256

RIN 1010-AD16

Oil, Gas, and Sulphur Operations and Leasing in the Outer Continental Shelf (OCS)—Cost Recovery

AGENCY: Minerals Management Service (MMS), Interior.

ACTION: Final rule; delay of effective date.

SUMMARY: MMS is delaying until January 1, 2006, the effective date of a rule that will implement fees to offset MMS's costs of providing certain services related to its mineral programs. This delay is necessary because of damage caused in the New Orleans area by Hurricane Katrina and subsequent flooding. The delay will provide relief to the government and the oil and gas industry as they recover from this disaster.

DATES: The effective date of the rule amending 30 CFR Parts 250 and 256 published at 70 FR 49871, August 25, 2005 is delayed until January 1, 2006.

FOR FURTHER INFORMATION CONTACT: Angela Mazzullo, Offshore Minerals Management (OMM) Budget Office at (703) 787-1691.

SUPPLEMENTARY INFORMATION: The rule published August 25, 2005, requires MMS to develop additional procedures that MMS will provide to the oil and gas industry in the form of a Notice to Lessees. The primary office responsible for developing those procedures, the MMS Gulf of Mexico Regional Office in New Orleans, Louisiana, has been closed since Hurricane Katrina and the flooding that followed that disaster. Moreover, many of the lessees and operators subject to the rule are similarly engaged in the restoration of normal operations following Hurricane Katrina. Lessees and operators will be making changes in their own procedures to comply with the rule. Lessees and operators whose operations have been interrupted as a result of the hurricane may not be able to make these changes until normal operations resume. Accordingly, the Department of the Interior is postponing the effective date of the final rule until January 1, 2006.

Dated: September 20, 2005.
Rebecca W. Watson,
Assistant Secretary—Land and Minerals Management.

[FR Doc. 05-19223 Filed 9-23-05; 8:45 am]

BILLING CODE 4310-MR-P